DEPARTMENT OF TRANSPORTATION

Federal Aviation Administration

14 CFR Part 97

[Docket No. 30212; Amdt. No. 2019]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on November 9, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective November 30, 2000

Philadelphia, PA, Philadelphia Intl, ILS RWY 26, Amdt 1

Philadelphia, PA, Philadelphia Intl, ILS PRM, RWY 26, Orig (Simultaneous Close Parallel)

Philadelphia, PA, Philadelphia Intl, ILS RWY 27L, Amdt 11

Philadelphia, PA, Philadelphia Intl, ILS PRM, RWY 27L, Orig (Simultaneous Close Parallel)

Memphis, TN, Memphis Intl, ILS RWY 36C, Amdt 1

* * * Effective December 28, 2000

Talladega, AL, Talladega Muni, VOR/DME-B, Orig

Palmer, MA, Metropolitan, NDB RWY 4, Orig, CANCELLED

* * * Effective January 25, 2001

Destin, FL, Destin-Fort Walton Beach, RADAR-1, Amdt 8

Perry, FL, Perry-Foley, NDB RWY 36, Amdt 4

Perry, FL, Perry-Foley, RNAV (GPS) RWY 18, Orig

Perry, FL, Perry-Foley, RNAV (GPS) RWY 36, Orig

Perry, FL, Perry-Foley, VOR/DME RNAV OR GPS RWY 18, Amdt 1, CANCELLED

Atlanta, GA, The William B. Hartsfield Atlanta Intl, ILS RWY 27L, Amdt 14

Winamac, IN, Arens Field, NDB OR GPS RWY 9, Amdt 1, CANCELLED

Lexington, KY, Blue Grass, NDB RWY 4, Amdt 21

Lexington, KY, Blue Grass, ILS RWY 22, Amdt 18

Owatonna, MN, Owatonna Degner Regional, ILS RWY 30, Amdt 1

Atlantic City, NJ, Atlantic City Muni/Bader Field, VOR OR GPS-B, Amdt 1A, CANCELLED

Atlantic City, NJ, Ocean City Muni, VOR RWY 6, Amdt 1, CANCELLED

Erwin, NC, Harnett County, VOR/DME RWY 5, Amdt 2

Erwin, NC, HARNETT County, NDB RWY 23, Amdt 1

Erwin, NC, Harnett County, GPS RWY 5, Orig-B, CANCELLED

Erwin, NC, Harnett County, RNAV (GPS) RWY 5, Orig

Erwin, NC, Harnett County, RNAV (GPS) RWY 23, Orig

Saranac Lake, NY, Adirondack Regional, VOR/DME RWY 5, Amdt 3

Saranac Lake, NY, Adirondack Regional, VOR OR GPS RWY 9, Amdt 1

Saranac Lake, NY, Adirondack Regional, RNAV (GPS) RWY 5, Orig

Selinsgrove, PA, Penn Valley, VOR-A, Amdt 6

Selinsgrove, PA, Penn Valley, RNAV (GPS) RWY 17, Orig

Richmond/Ashland, VA, Hanover County Muni, VOR RWY 16, Amdt 1

Richmond/Ashland, VA, Hanover County Muni, LOC RWY 16, Amdt 2

Clarksburg, WV, Benedum, ILS RWY 21, Amdt 1

The FAA published an Amendment in Docket 30210, Amdt No. 2017 to Part 97 Of the Federal Aviation Regulations, Volume 65 FR No. 213, Pages 65733 dated Thursday, November 2, 2000 under section 97.29 effective January 25, 2001 which is hereby rescinded:

Jackson, WY, Jackson Hole, ILS RWY 18, Amdt 7

[FR Doc. 00-29319 Filed 11-15-00; 8:45 am]

BILLING CODE 4910-13-M